DEPARTMENT OF AGRICULTURE

Animal and Plant Health Inspection Service

9 CFR Part 94

[Docket No. 00-111-2]

Change in Disease Status of Uruguay Because of Foot-and-Mouth Disease

AGENCY: Animal and Plant Health Inspection Service, USDA.

ACTION: Interim rule and request for comments.

SUMMARY: We are amending the regulations governing the importation of certain animals, meat, and other animal products by removing Uruguay from the list of regions considered free of rinderpest and foot-and-mouth disease. We are also removing Uruguay from the list of regions that are declared to be free of these diseases, but that are subject to certain restrictions because of their proximity to or trading relationships with regions affected with rinderpest or foot-and-mouth disease. We are taking this action because the existence of foot-and-mouth disease has been confirmed in 18 departments in Uruguay. The effect of this action is to prohibit or restrict the importation of any ruminant or swine and any fresh (chilled or frozen) meat and other products of ruminants or swine into the United States from Uruguay.

DATES: This interim rule is effective retroactively to April 2, 2001. We invite you to comment on this docket. We will consider all comments that we receive by September 11, 2001.

ADDRESSES: Please send four copies of your comment (an original and three copies) to:

Docket No. 00-111-2, Regulatory Analysis and Development, PPD, APHIS, Suite 3C03, 4700 River Road Unit 118, Riverdale, MD 20737-1238. Please state that your comment refers to Docket No. 00-111-2.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Colgrove, Chief Staff Veterinarian, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other regions of the world not listed. Section 94.11 of the regulations lists regions of the world that have been declared free of rinderpest and FMD, but are subject to certain restrictions because of their proximity to or trading relationships with rinderpest- or FMD-affected regions.

On December 13, 2000, we published in the Federal Register an interim rule (65 FR 77771-77773, Docket No. 00-111-1) to remove the Uruguayan department of Artigas, a region in northern Uruguay, from the list of regions considered to be free of rinderpest and FMD because FMD had been confirmed there. Prior to the effective date of that interim rule, Uruguay was among the regions listed in §§ 94.1 and 94.11 as regions considered to be free of rinderpest and FMD.

On April 25, 2001, FMD was confirmed in the Uruguayan department of Soriano. Subsequently, on May 3, 2001, Uruguay's Ministry of Livestock, Agriculture and Fisheries notified the U.S. Department of Agriculture and the Office International des Epizooties (OIE) with clinical confirmation of 123 new cases of FMD. The new outbreaks of FMD were confirmed in the departments of Artigas, Canelones, Colonia, Durazno, Flores, Florida, Paysandu, Rio Negro, Rivera, Salto, San Jose, Soriano, and Treinta y Tres. As of June 22, 2001, there were 1,596 confirmed cases of FMD in the departments of Artigas, Canelones, Cerro Largo, Colonia, Durazno, Flores, Florida, Lavalleja, Maldonado, Paysandu, Rio Negro, Rivera, Rocha, Salto, San Jose, Soriano, Tacuarembo, and Treinta y Tres.

Uruguay maintains a surveillance system capable of detecting FMD should the disease be introduced to other regions of the country, and has the laws, policies, and infrastructure to detect and respond to any occurrence of FMD. Uruguay is taking the following control measures: (1) The movement of all animals, including non-susceptible species, is prohibited; (2) a total of 5,295 cattle, 1,481 sheep, and 332 pigs were slaughtered and their carcasses destroyed before stamping out was suspended on April 30, 2001; (3) an emergency ring vaccination campaign began on April 28, 2001. A containment zone was established, with strategic vaccination of 842,000 cattle in the departments of San Jose, Flores, Duranzo, Tacuarembo, Rio Negro, Paysandu, and Salto; (4) in addition to sanitary measures being applied within the outbreak areas, fixed control and disinfection posts have been strategically placed on the main access routes to the affected areas; and (5) sanitary certificates are being issued for the export of animal products that do not present any risk.

We believe it is necessary, given the spread of FMD outside the department of Artigas, to impose restrictions on all of Uruguay to protect the livestock of the United States from FMD. Therefore, we are amending the regulations in § 94.1 by removing Uruguay from the list of regions considered to be free of rinderpest and FMD. We are also removing Uruguay from the list in § 94.11 of regions that are considered to be free of these diseases, but are subject to certain restrictions because of their proximity to or trading relationships with rinderpest- or FMD-affected regions. As a result of this action, the importation into the United States of any ruminant or swine and any fresh (chilled or frozen) meat and other products of ruminants and swine from any part of Uruguay is prohibited or restricted. We are making these amendments effective retroactively to April 2, 2001, because the disease may have been present in the affected areas outside of the department of Artigas for some time before it was detected in the department of Soriano on April 25, 2001.

Although we are removing Uruguay from the list of regions considered to be free of rinderpest and FMD, we recognize that Uruguay's Ministry of Livestock, Agriculture and Fisheries responded immediately to the detection of the disease by imposing restrictions on the movement of ruminants, swine, and ruminant and swine products from the affected areas and by initiating measures to eradicate the disease. We intend to reassess the situation in accordance with the standards of the OIE. As part of that reassessment process, we will consider all comments received on this interim rule. This future reassessment will enable us to determine whether it is necessary to continue to prohibit or restrict the importation of ruminants or swine and any fresh (chilled or frozen) meat and other products of ruminants or swine from Uruguay, or whether we can restore all or portions of Uruguay to the list of regions considered free of rinderpest and FMD.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. For this action, the Office of Management and Budget has waived its review process required by Executive Order 12866.

We are amending the regulations governing the importation of certain animals, meat, and other animal products by removing Uruguay from the list of regions considered to be free of rinderpest and FMD. We are taking this action because the existence of FMD has been confirmed in 18 departments in Uruguay. The effect of this action is to prohibit or restrict the importation of any ruminant or swine and any fresh (chilled or frozen) meat and other products of ruminants or swine into the United States from Uruguay.

FMD is among the most infectious and destructive of all animal diseases. While it rarely kills adult animals, the virus may kill young and weak animals. Production losses are substantial, and costs to eradicate the disease are high. A single outbreak of FMD in the United States has the potential to close our major livestock export markets overnight. During the eradication process, most exports of meat, animals, and animal byproducts would be curtailed. Additionally, if the early signs of an outbreak were not immediately recognized, eradication could take years. Therefore, efforts to reduce the risk of the entry of FMD into the United States continue to be a high priority.

Imports of infected animal products pose the greatest risk of entry for FMD into the United States. The virus can survive in chilled, frozen, salted, cured, and partially cooked meats. Additionally, the virus can also be present in cheese, since the pasteurization process does not completely kill the virus. Strict quarantine regulations minimize the risk of any infected products entering the United States. With the exception of North and Central America (north of Panama), Australia, and New Zealand, FMD is still present in many areas of the world. FMD was last reported in the United States in 1929, in Canada in 1952, and in Mexico in 1954.

The United States livestock industry plays a significant role in international trade. Maintaining favorable trade conditions depends, in part, on continued aggressive efforts to prevent the entry of FMD into the United States. In 1999, the total earnings from exports of live cattle and swine and of beef and veal, pork, and dairy products were approximately $4.818 billion, while the value of imports was $5.671 billion. Livestock and related product exports generated about $11.7 billion in output sales and created about 100,000 jobs in the United States.

However, the value of live animals and animal products imported from Uruguay represents a small percentage of total U.S. imports of these products. Therefore, U.S. price and supply are not expected to be affected by this rule. Further, any shortfall of supply could easily be met from domestic or other sources without any significant effect on producer or consumer prices. Therefore, this rule can be expected to produce economic benefits by minimizing the risk of FMD entering the United States with little to no effect on supply or consumer prices.

Under these circumstances, the Administrator of the Animal and Plant Health Inspection Service has determined that this action will not have a significant impact on a substantial number of small entities.

Executive Order 12988

This rule has been reviewed under Executive Order 12988, Civil Justice Reform. This rule: (1) Preempts all State and local laws and regulations that are inconsistent with this rule;

(2) has retroactive effect to April 2, 2001; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: 7 U.S.C. 450, 7711, 7712, 7713, 7714, 7751, and 7754; 19 U.S.C. 1306; 21 U.S.C. 111, 114a, 134a, 134b, 134c, 134f, 136, and 136a; 31 U.S.C. 9701; 42 U.S.C. 4331 and 4332; 7 CFR 2.22, 2.80, and 371.4.

§ 94.1 [Amended]

2. In § 94.1, paragraph (a)(2) is amended by adding the word “and” after the word “Tobago,” and by removing the words “, and Uruguay except the department of Artigas”.

§ 94.11 [Amended]

3. In § 94.11, paragraph (a) is amended by adding the word “and” after the word “Sweden,” and by removing the words “and Uruguay except the department of Artigas,”.

Done in Washington, DC, this 9th day of July 2001.
Bobby R. Acord,
Acting Administrator, Animal and Plant Health Inspection Service.

[FR Doc. 01-17554 Filed 7-12-01; 8:45 am]

BILLING CODE 3410-34-P